DEPARTMENT OF COMMERCE

International Trade Administration

[A-570-016]

Certain Passenger Vehicle and Light Truck Tires From the People's Republic of China: Preliminary Results of Antidumping Duty Administrative Review; Rescission, in Part; and Preliminary Determination of No Shipments; 2020-2021

AGENCY: Enforcement and Compliance, International Trade Administration, Department of Commerce.

SUMMARY: The U.S. Department of Commerce (Commerce) preliminarily finds that certain producers and exporters of passenger vehicle and light truck tires (passenger tires) from the People's Republic of China (China) made sales of subject merchandise at prices below normal value (NV) during the period of review (POR), August 1, 2020, through July 31, 2021. Commerce also preliminarily finds that 17 companies qualified for separate rate status, eight companies are part of the China-wide entity, nine companies timely withdrew their requests for an administrative review, and ten companies did not ship subject merchandise to the United States during the POR. We invite interested parties to comment on these preliminary results.

DATES: Applicable September 8, 2022.

FOR FURTHER INFORMATION CONTACT: Toni Page or Peter Shaw, AD/CVD Operations, Office VII, Enforcement and Compliance, International Trade Administration, U.S. Department of Commerce, 1401 Constitution Avenue NW, Washington, DC 20230; telephone: (202) 482-1398 or (202) 482-0697, respectively.

SUPPLEMENTARY INFORMATION:

Background

On August 10, 2015, Commerce published in the Federal Register the antidumping duty order on passenger tires from China.¹ On August 2, 2021, Commerce published in the Federal Register a notice of opportunity to request an administrative review of the Order on passenger tires from China for the period August 1, 2020, through July 31, 2021.² On October 7, 2021, based on timely requests for review, Commerce published the initiation of the administrative review of the Order with respect to 47 companies.³ The petitioner in this review is the United Steel, Paper and Forestry, Rubber, Manufacturing, Energy, Allied Industrial and Service Workers International Union, AFL-CIO, CLC (USW). This review covers mandatory respondents, Giti ⁴ and Sumitomo,⁵ as well as 33 additional exporters that were not selected for individual examination.

¹ See Certain Passenger Vehicle and Light Truck Tires from the People's Republic of China: Amended Final Affirmative Antidumping Duty Determination and Antidumping Duty Order; and Amended Final Affirmative Countervailing Duty Determination and Countervailing Duty Order, 80 FR 47902 (August 10, 2015) (Order).

² See Antidumping or Countervailing Duty Order, Finding, or Suspended Investigation; Opportunity to Request Administrative Review, 86 FR 41436 (August 2, 2021).

³ See Initiation of Antidumping and Countervailing Duty Administrative Reviews, 86 FR 55811 (October 7, 2021).

⁴ In a prior administrative review, we determined that it was appropriate to treat the following companies as a single entity: Giti Tire Global Trading Pte. Ltd. (GTT); Giti Radial (Anhui) Tire Company Ltd. (Giti Radial Anhui), and Giti Tire Fujian Company Ltd. (Giti Fujian), Giti Tire (Hualin) Company, Ltd., Giti Tire Greatwall Company. Ltd., Giti Tire (Anhui) Company, Giti Tire (Yinchuan) Company Ltd., Giti Tire (Chongqing Company Ltd., and Giti Tire USA, Ltd. collectively, Giti). See Certain Passenger Vehicle and Light Truck Tires from the People's Republic of China: Preliminary Results of Antidumping Duty Administrative Review; Preliminary Determination of No Shipments, and Rescission, In Part; 2015-2016, 82 FR 42281 (September 7, 2017), and accompanying Preliminary Decision Memorandum (PDM), at “Affiliation and Single Entity Treatment,” unchanged in Certain Passenger Vehicle and Light Truck Tires from the People's Republic of China: Final Results of Antidumping Duty Administrative Review; and Final Determination of No Shipments; 2015-2016, 83 FR 11690 (March 16, 2018). Because no interested party submitted comments on this issue, and in the absence of any new information regarding this finding, Commerce is continuing to find that these companies are affiliated, pursuant to section 771(33)(E) of the Tariff Act of 1930, as amended (the Act), and are a single entity, pursuant to 19 CFR 351.401(f). However, because Giti Tire USA, Ltd. is an affiliated entity located in California, we find that, per Commerce's practice, this affiliate should be removed from the single entity. See Giti's Letter, “Passenger Vehicle and Light Truck Tires from the People's Republic of China: Section A Questionnaire Response,” dated January 4, 2022, at 2 and Exhibit A-3.

⁵ In the prior segment of this proceeding, we determined that it was appropriate to treat the following entities as a single entity: Sumitomo Rubber (Hunan) Co., Ltd. (SRH), Sumitomo Rubber (Changshu) Co., Ltd. (SRC), and Sumitomo Rubber Industries (SRI) (collectively, Sumitomo). See Certain Passenger Vehicle and Light Truck Tires from the People's Republic of China: Preliminary Results of Antidumping Duty Administrative Review; and Preliminary Determination of No Shipments; 2019-2020, 86 FR 50029 (September 7, 2021), and accompanying PDM, at “Affiliation and Single Entity Treatment,” unchanged in Certain Passenger Vehicle and Light Truck Tires from the People's Republic of China: Final Results of Antidumping Duty Administrative Review; and Final Determination of No Shipments; 2019-2020, 87 FR 13966 (March 11, 2022). Because no interested party submitted comments on this issue, and in the absence of any new information regarding this finding, Commerce is continuing to find that SRH, SRC, and SRI are affiliated, pursuant to section 771(33)(F) of the Act, as, and are a single entity, pursuant to 19 CFR 351.401(f).

On March 31, 2022, Commerce extended the deadline for these preliminary results to August 31, 2022.⁶ For a complete description of the events that followed the initiation and the partial rescission of this administrative review, see the Preliminary Decision Memorandum.⁷ A list of topics discussed in the Preliminary Decision Memorandum is included in Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁶ See Memorandum, “Extension of Deadline for Preliminary Results of Antidumping Duty Administrative Review 2020-2021,” dated March 31, 2022.

⁷ See Memorandum, “Decision Memorandum for the Preliminary Results of the Antidumping Duty Administrative Review of Certain Passenger Vehicle and Light Truck Tires from the People's Republic of China and Preliminary Determination of No Shipments; 2020-2021,” dated concurrently with, and hereby adapted by, this notice (Preliminary Decision Memorandum).

Scope of the Order

The products covered by the Order are certain passenger vehicle and light truck tires from China. A full description of the scope of the Order is contained in the Preliminary Decision Memorandum.⁸

⁸ See Preliminary Decision Memorandum at “Scope of the Order.”

Methodology

Commerce is conducting this review in accordance with section 751(a)(1)(B) of the Act and 19 CFR 351.213. In determining the dumping margins in this review, we calculated constructed export price in accordance with section 772 of the Act. Because Commerce has determined that China is a non-market economy (NME) country, within the meaning of section 771(18) of the Act, we calculated normal value in this review in accordance with section 773(c) of the Act. For a full description of the methodology underlying the preliminary results of this review, see the Preliminary Decision Memorandum.

Preliminary Determination of No Shipments

Between October 15 and November 8, 2021, 13 companies timely filed certifications that they had no exports, shipments, sales, or entries of subject merchandise to the United States during the POR.⁹ Based on an analysis of information from U.S. Customs and Border Protection (CBP), Commerce preliminarily determines that the following ten companies had no shipments of subject merchandise during the POR: (1) Hongtyre Group Co.; (2) Mayrun Tyre (Hong Kong) Limited; (3) Qingdao Nama Industrial Co., Ltd.; (4) Shandong Changfeng Tyres Co., Ltd.; (5) Shandong Duratti Rubber Corporation Co., Ltd.; (6) Shandong Linglong Tyre Co., Ltd.; (7) Shandong Yongsheng Rubber Group Co., Ltd.; (8) Tyrechamp Group Co., Limited; (9) Wendeng Sanfeng Tyre Co., Ltd.; and (10) Zhaoqing Junhong Co., Ltd.

⁹ See Hongtyre's Letter, “No Shipment Letter for Hongtyre,” dated November 8, 2021; see also Mayrun Tyre's Letter, “No Sales and Separate Rate Certification,” dated November 8, 2021; Qingdao Nama's Letter, “Submission of Statement of No Shipments,” dated October 15, 2021; Roadclaw's Letter, “Roadclaw's No Shipment Certification,” dated October 21, 2021; Shandong Changfeng's Letter, “No Sales Certification,” dated November 8, 2021; Duratti's Letter, “No Sales Certification,” dated November 8, 2021; Shandong Linglong's Letter, “No Commercial Shipment Letter for Linglong,” dated October 27, 2021; Shandong Yongsheng's Letter, “Notice of No Sales,” dated November 5, 2021; Firemax's Letter, “Notice of No Sales,” dated November 5, 2021 (Firemax's No Shipment Letter); Tyrechamp's Letter, “Submission of Statement of No Shipments,” dated October 20, 2021; Sanfeng Tyre's Letter, “No Shipment Certification for the Administrative Review,” dated October 21, 2021; Winrun's Letter, “Winrun's No Shipment Certification,” dated October 21, 2021; and Zhaoqing Junhong's Letter, “No Sales & Separate Rate Certification,” dated November 8, 2021.

In addition, Commerce preliminarily determines that Roadclaw Tyre (Hong Long) Limited; Shouguang Firemax Tyre Co., Ltd.; and Winrun Tyre Co., Ltd., had reviewable transactions during the POR. For additional information regarding these preliminary findings, see the Preliminary Decision Memorandum.

Consistent with Commerce's practice in NME cases, we are not rescinding this administrative review with respect to the companies for which we preliminarily found had no shipments but intend to complete the review and issue appropriate instructions to CBP based on the final results of the review.¹⁰

¹⁰ See Non-Market Economy Antidumping Proceedings: Assessment of Antidumping Duties, 76 FR 65694, 65694-95 (October 24, 2011) (NME Assessment of Duties); see also the “Assessment Rates” section, infra.

China-Wide Entity

Commerce's policy regarding conditional review of the China-wide entity applies to this administrative review.¹¹ Under this policy, the China-wide entity will not be under review unless a party specifically requests, or Commerce self-initiates, a review of the entity. Because no party requested a review of the China-wide entity, and we did not self-initiate a review, the China-wide entity cash deposit rate (i.e., 76.46 percent) is not subject to change as a result of this review.¹²

¹¹ See Antidumping Proceedings: Announcement of Change in Department Practice for Respondent Selection in Antidumping Duty Proceedings and Conditional Review of the Nonmarket Economy Entity in NME Antidumping Duty Proceedings, 78 FR 65963 (November 4, 2013).

¹² See Certain Passenger Vehicle and Light Truck Tires from the People's Republic of China: Amended Final Affirmative Antidumping Duty Determination and Antidumping Duty Order; and Amended Final Affirmative Countervailing Duty Determination and Countervailing Duty Order, 80 FR 47902, 47906 (August 10, 2015).

Separate Rates

In all proceedings involving NME countries, Commerce maintains a rebuttable presumption that all companies within an NME country are subject to government control and, thus, should be assessed a single weighted-average dumping margin unless the company can affirmatively demonstrate an absence of government control, both in law (de jure) and in fact (de facto), with respect to its exports so that it is entitled to separate rate status.¹³ Commerce preliminarily finds that the information placed on the record by: (1) Anhui Jichi Tire Co., Ltd.; (2) Crown International Corporation; (3) Hankook Tire China Co., Ltd.; (4) Jiangsu Hankook Tire Co., Ltd.; (5) Koryo International Industrial Limited; (6) Nankang (Zhangjiagang Free Trade Zone) Rubber Industrial Co., Ltd.; (7) Qingdao Sentury Tire Co., Ltd; ¹⁴ (8) Qingdao Sunfulcess Tyre Co., Ltd.; (9) Qingdao Transamerica Tire Industrial Co., Ltd.; (10) Shandong Haohua Tire Co., Ltd.; (11) Shandong Hengyu Science & Technology Co., Ltd.; (12) Shandong New Continent Tire Co., Ltd.; (13) Shandong Province Sanli Tire Manufactured Co., Ltd.; (14) Shandong Wanda Boto Tyre Co., Ltd.; and (15) Triangle Tyre Co., Ltd. demonstrates that these companies are entitled to separate rate status.

¹³ See, e.g., Notice of Final Determination of Sales at Less Than Fair Value, and Affirmative Critical Circumstances, In Part: Certain Lined Paper Products from the People's Republic of China, 71 FR 53079, 53082 (September 8, 2006); and Final Determination of Sales at Less Than Fair Value and Final Partial Affirmative Determination of Critical Circumstances: Diamond Sawblades and Parts Thereof from the People's Republic of China, 71 FR 29303, 29307 (May 22, 2006).

¹⁴ In a prior administrative review, we determined to treat the following companies as a single entity: Sentury Qingdao, Sentury Tire USA Inc. and Sentury (Hong Kong) Trading Co., Limited (collectively, Sentury). See Certain Vehicle and Light Truck Tires from the People's Republic of China: Preliminary Results of Antidumping Duty Administrative Review, Preliminary Determination of No Shipments, and Rescission, in Part; 2015-2016, 82 FR 42281 (September 7 2017), unchanged in Certain Vehicle and Light Truck Tires from the People's Republic of China: Final Results of Administrative Review and Final Determination of No Shipments; 2015-2016, 83 FR 11690 (March 16, 2018). We note that only Sentury Qingdao filed an SRA and stated that only it had exports to the United States during the POR. See Sentury Qingdao's Letter, “Sentury Qingdao Separate Rate Application,” dated November 17, 2021, at 21. Additionally, because Sentury Tire USA Inc. is an affiliated entity located in the United States, we find that, per Commerce's practice, this affiliate should be removed from the single entity. Id. at 20.

We have preliminarily determined that the companies listed in Appendix II have not demonstrated their eligibility for a separate rate because either the company did not file a timely separate rate application (SRA) or a separate rate certification with Commerce or it was unable to demonstrate an absence of government control, both in law and in fact, with respect to exports. We are treating the companies listed in Appendix II as part of the China-wide entity. Because no party requested a review of the China-wide entity, the entity is not under review and the entity's rate (i.e., 76.46 percent) is not subject to change. For additional information regarding Commerce's preliminary separate rate determinations, see the Preliminary Decision Memorandum.

Weighted-Average Dumping Margin for Non-Selected Separate Rate Companies

The Act and Commerce's regulations do not identify the dumping margin to apply to respondents not selected for individual examination when Commerce limits its examination in an administrative review pursuant to section 777A(c)(2) of the Act. Generally, Commerce looks to section 735(c)(5) of the Act, which provides instructions for calculating the all-others rate in an investigation, for guidance when determining the dumping margin for respondents that are not individually examined in an administrative review. Section 735(c)(5)(A) of the Act states that the all-others rate should be calculated by averaging the weighted-average dumping margins for individually examined respondents, excluding dumping margins that are zero, de minimis, or based entirely on facts available. Where the dumping margins for individually examined respondents are all zero, de minimis, or based entirely on facts available, section 735(c)(5)(B) of the Act provides that Commerce may use “any reasonable method to establish the estimated all others rate for exporters and producers not individually investigated, including averaging the estimated weighted average dumping margins determined for the exporters and producers individually investigated.”

Commerce calculated an estimated weighted-average dumping margin of 9.08 percent for Giti and 0.59 percent for Sumitomo. Because Giti and Sumitomo have individually-calculated weighted-average dumping margins that are not zero, de minimis, or based entirely on facts otherwise available, we are assigning the separate rate respondents a dumping margin equal to the simple average of Giti's and Sumitomo's margins.

Partial Rescission of Administrative Review

Pursuant to 19 CFR 351.213(d)(1), Commerce will rescind an administrative review, in whole or in part, if all parties that requested a review withdraw their requests within 90 days of the publication date of the notice of initiation of the requested review in the Federal Register. Between October 25, 2021, and January 6, 2022, we received timely withdrawals from this administrative review from nine companies.¹⁵

¹⁵ The nine companies that withdrew their requests for review are: (1) Sailun Group (HongKong) Co., Limited, formerly known as Sailun Jinyu Group (Hong Kong) Co., Limited; (2) Sailun Group Co., Ltd., formerly known as Sailun Jinyu Group Co., Ltd.; (3) Sailun Tire Americas Inc., formerly known as SJI North America Inc.; (4) Zhongce Rubber Group Co., Ltd.; (5) Qingdao Lakesea Tyre Co., Ltd.; (6) Safe & Well (HK) International Trading Limited; (7) Kumho Tire (Tianjin) Co., Inc.; (8) Nanjing Kumho Tire Co., Ltd.; and (9) Kumho Tire (Changchun) Co., Inc.

Because no other party requested a review of the nine aforementioned companies, consistent with 19 CFR 351.213(d)(1), Commerce is rescinding this review, in part, with respect to these companies.

Preliminary Results of Review

Commerce preliminarily determines that the following weighted-average dumping margins exist for the period August 1, 2020, through July 31, 2021:

Exporter | Weighted- average dumping margin (percent)
Giti Tire Global Trading Pte. Ltd.; Giti Radial Tire (Anhui) Company Ltd.; and Giti Tire (Fujian) Company Ltd.; Giti Tire (Hualin) Company Ltd.; Giti Tire Greatwall Company, Ltd.; Giti Tire (Anhui) Company, ltd.; Giti Tire (Yinchuan) Company, Ltd.; Giti Tire (Chongqing) Company, Ltd | 9.08
Sumitomo Rubber Industries Ltd.; Sumitomo Rubber (Hunan) Co., Ltd.; and Sumitomo Rubber (Changshu) Co., Ltd | 0.59
Anhui Jichi Tire Co., Ltd | 4.84
Crown International Corporation | 4.84
Hankook Tire China Co., Ltd | 4.84
Jiangsu Hankook Tire Co., Ltd | 4.84
Koryo International Industrial Limited | 4.84
Nankang (Zhangjiagang Free Trade Zone) Rubber Industrial Co., Ltd | 4.84
Qingdao Sentury Tire Co., Ltd.; Sentury (Hong Kong) Trading Co., Limited | 4.84
Qingdao Sunfulcess Tyre Co., Ltd | 4.84
Qingdao Transamerica Tire Industrial Co., Ltd | 4.84
Shandong Haohua Tire Co., Ltd | 4.84
Shandong Hengyu Science & Technology Co., Ltd | 4.84
Shandong New Continent Tire Co., Ltd | 4.84
Shandong Province Sanli Tire Manufactured Co., Ltd | 4.84
Shandong Wanda Boto Tyre Co. Ltd | 4.84
Triangle Tyre Co., Ltd | 4.84

Disclosure

Commerce will disclose calculations performed for these preliminary results to the parties within five days of the date of publication of this notice, in accordance with 19 CFR 351.224(b).

Public Comment

Case briefs or other written comments may be submitted to the Assistant Secretary for Enforcement and Compliance. Interested parties will be notified of the timeline for the submission of such case briefs and written comments at a later date. Rebuttal briefs, limited to issues raised in the case briefs, may be filed no later than seven days after the date for filing case briefs.¹⁶ Parties who submit case briefs or rebuttal briefs in this proceeding are encouraged to submit with each argument: (1) a statement of the issue; (2) a brief summary of the argument; and (3) a table of authorities. Case and rebuttal briefs should be filed using ACCESS ¹⁷ and must be served on interested parties.¹⁸ Note that Commerce has temporarily modified certain of its requirements for serving documents containing business proprietary information, until further notice.¹⁹

¹⁶ See 19 CFR 351.309(d); see also Temporary Rule Modifying AD/CVD Service Requirements Due to COVID-19, 85 FR 17006, 17007 (March 26, 2020) (“To provide adequate time for release of case briefs via ACCESS, E&C intends to schedule the due date for all rebuttal briefs to be 7 days after case briefs are filed (while these modifications remain in effect)”).

¹⁷ See 19 CFR 351.303 (for general filing requirements).

¹⁸ See 19 CFR 351.303(f).

¹⁹ See Temporary Rule Modifying AD/CVD Service Requirements Due to COVID-19; Extension of Effective Period, 85 FR 41363 (July 10, 2020).

Pursuant to 19 CFR 351.310(c), interested parties who wish to request a hearing, or to participate if one is requested, must submit a written request to the Assistant Secretary for Enforcement and Compliance, within 30 days of the date of publication of this notice.²⁰ Requests should contain: (1) the party's name, address, and telephone number; (2) the number of participants; and (3) a list of issues to be discussed. Issues raised in the hearing will be limited to those raised in the respective case and rebuttal briefs. If a request for a hearing is made, Commerce intends to hold the hearing at a date and time to be determined.²¹ Parties should confirm the date, time, and location of the hearing two days before the scheduled date.

²⁰ See 19 CFR 351.310(c).

²¹ See 19 CFR 351.310(d).

Commerce intends to issue the final results of this administrative review, which will include the results of our analysis of all issues raised in the case briefs, within 120 days of publication of these preliminary results in the Federal Register, unless extended, pursuant to section 751(a)(3)(A) of the Act.

Verification

On January 10, 2022, the petitioner requested, pursuant to 19 CFR 351.307(b)(1)(v), that Commerce conduct verification of the questionnaire responses submitted in this administrative review.²² As provided in section 782(i)(1) of the Act, Commerce intends to verify the information relied upon in making its final determination for Giti.

²² See Petitioner's Letter, “Certain Passenger Vehicle and Light Truck Tires from the People's Republic of China (A-570-016)-Petitioner's Verification Request,” dated January 10, 2022.

Assessment Rates

Upon issuing the final results of this review, Commerce shall determine, and CBP shall assess, antidumping duties on all appropriate entries covered by this review.²³ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

²³ See 19 CFR 351.212(b)(1).

For each individually examined respondent in this review whose weighted-average dumping margin in the final results of review is not zero or de minimis (i.e., less than 0.5 percent), Commerce intends to calculate importer/customer-specific assessment rates.²⁴ Where the respondent reported reliable entered values, Commerce intends to calculate importer/customer-specific ad valorem assessment rates by aggregating the amount of dumping calculated for all U.S. sales to the importer/customer and dividing this amount by the total entered value of the merchandise sold to the importer/customer.²⁵ Where the respondent did not report entered values, Commerce will calculate importer/customer-specific assessment rates by dividing the amount of dumping for reviewed sales to the importer/customer by the total quantity of those sales. Commerce will calculate an estimated ad valorem importer/customer-specific assessment rate to determine whether the per-unit assessment rate is de minimis; however, Commerce will use the per-unit assessment rate where entered values were not reported.²⁶ Where an importer/customer-specific ad valorem assessment rate is not zero or de minimis, Commerce will instruct CBP to collect the appropriate duties at the time of liquidation. Where either the respondent's weighted-average dumping margin is zero or de minimis, or an importer/customer-specific ad valorem assessment rate is zero or de minimis, Commerce will instruct CBP to liquidate appropriate entries without regard to antidumping duties.²⁷

²⁴ See Antidumping Proceedings: Calculation of the Weighted Average Dumping Margin and Assessment Rate in Certain Antidumping Proceedings: Final Modification, 77 FR 8101 (February 14, 2012) (Final Modification).

²⁵ See 19 CFR 351.212(b)(1).

²⁶ Id.

²⁷ See Final Modification, 77 FR at 8103.

For entries that were not reported in the U.S. sales database submitted by an exporter individually examined during this review, but that entered under the case number of that exporter (i.e., at the individually-examined exporter's cash deposit rate), Commerce will instruct CBP to liquidate such entries at the China-wide rate of 76.46 percent.²⁸ We also intend to liquidate entries containing subject merchandise exported: (1) by the companies under review that we determine in the final results to be part of the China-wide entity; and (2) under the name Tyrechamp Group Co. Ltd., at the China-wide cash deposit rate of 76.46 percent.

²⁸ For a full discussion of this practice, see NME Assessment of Duties.

For the companies receiving a separate rate, we intend to assign an assessment rate of 4.84 percent, consistent with the methodology described above. Additionally, if Commerce determines that an exporter under review had no shipments of the subject merchandise, any suspended entries that entered under that exporter's CBP case number will be liquidated at the rate for the China-wide entity.

Finally, for companies for which we rescinded the review, antidumping duties shall be assessed at rates equal to the cash deposit of estimated antidumping duties required at the time of entry, or withdrawal from warehouse, for consumption, in accordance with 19 CFR 351.212(c)(1)(i).

Cash Deposit Requirements

The following cash deposit requirements will be effective upon publication of the final results of this administrative review for all shipments of the subject merchandise from China entered, or withdrawn from warehouse, for consumption on or after the publication date, as provided for by section 751(a)(2)(C) of the Act: (1) for the companies listed above that have a separate rate, the cash deposit rate will be that rate established in the final results of this review (except, if the rate is zero or de minimis, then a cash deposit rate of zero will be established for that company); (2) for previously investigated or reviewed Chinese and non-Chinese exporters not listed above that have separate rates, the cash deposit rate will continue to be equal to the exporter-specific weighted-average dumping margin published of the most recently-completed segment of this proceeding; (3) for all Chinese exporters of subject merchandise that have not been found to be entitled to a separate rate, the cash deposit rate will be the rate for China-wide entity, 76.46 percent; and (4) for all exporters of subject merchandise which are not located in China and which are not eligible for a separate rate, the cash deposit rate will be the rate applicable to Chinese exporter(s) that supplied that non-Chinese exporter. These deposit requirements, when imposed, shall remain in effect until further notice.

Notification to Importers

This notice also serves as a reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of the countervailing duties.

Notification to Interested Parties

We are issuing and publishing these results in accordance with sections 751(a)(1) and 777(i)(1) of the Act and 19 CFR 351.213 and 19 CFR 351.221(b)(4).

Dated: August 31, 2022.
Lisa W. Wang,
Assistant Secretary for Enforcement and Compliance.

Appendix I

List of Topics Discussed in the Preliminary Decision Memorandum

I. Summary

II. Background

III. Scope of the Order

IV. Preliminary Determination of No Shipments

V. Discussion of the Methodology

VI. Currency Conversion

VII. Recommendation

Appendix II

Companies Preliminarily Determined To Be Part of the China-Wide Entity

1. Kenda Rubber (China) Co., Ltd.

2. Kumho Tire Co., Inc.

3. Qingdao Crowntyre Industries Co., Ltd.

4. Qingdao Odyking Tyre Co., Ltd.

5. Roadclaw Tyre (Hong Kong) Limited

6. Shouguang Firemax Tyre Co., Ltd.

7. Shandong Longyue Rubber Co., Ltd

8. Winrun Tyre Co., Ltd.

[FR Doc. 2022-19339 Filed 9-7-22; 8:45 am]

BILLING CODE 3510-DS-P